DEPARTMENT OF LABOR

Mine Safety and Health Administration

Proposed Information Collection Request Submitted for Public Comment and Recommendations; Quarterly Mine Employment and Coal Production Report

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before July 1, 2002.

ADDRESSES: Send comments to David L. Meyer, Director, Office of Administration and Management, 4015 Wilson Boulevard, Room 615, 4015, Arlington, VA 22203-1984. Commenters are encouraged to send their comments on a computer disk, or via Internet E-mail to Meyer-David@msha.gov, along with an original printed copy.

Mr. Meyer can be reached at (703) 235-1383 (voice), or (703) 235-1563 (facsimile).

FOR FURTHER INFORMATION CONTACT: Charlene N. Barnard, Regulatory Specialist, Records Management Division, U.S. Department of Labor, Mine Safety and Health Administration, Room 725, 4015 Wilson Boulevard, Arlington, VA 22203-1984. Ms. Barnard can be reached at barnard-charlene@msha.gov (Internet E-mail), (703) 235-1470 (voice), or (703) 235-1563 (facsimile).

SUPPLEMENTARY INFORMATION:

I. Background

The reporting and recordkeeping provisions in 30 CFR 50.30(a), Preparation and submission of MSHA Form 7000-2-Quarterly Employment and Coal Production Report is an essential element in MSHA's Congressional mandate to reduce work-related injuries and illnesses among the nation's miners.

II. Desired Focus of Comments

Currently, the Mine Safety and Health Administration (MSHA) is soliciting comments concerning the proposed extension of the information collection related to the Quarterly Mine Employment and Coal Production Report. MSHA is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act Submissions (http://www.msha.gov/regspwork.htm)”, or by contacting the employee listed above in the FOR FURTHER INFORMATION CONTACT section of this notice for a hard copy.

III. Current Actions

MSHA is seeking approval of the existing information collection requirements as required by the Paperwork Reduction Act of 1995, as amended.

Type of Review: Extension.

Agency: Mine Safety and Health Administration.

Title: Quarterly Employment and Coal Production.

OMB Number: 1219-0006 (MSHA Form 7000-2).

Affected Public: Business or other.

Frequency: Quarterly.

Recordkeeping: 5 years.

Cite/Reference/Form/etc: 30 CFR 50.30.

Total Respondents: 27,618.

Total Responses: 83,819.

Average Time per Response: .58 minutes.

Estimated Total Burden Hours: 48,877.

* Discrepancies due to rounding.

Total Annualized Capital/Startup Costs: 0.

Comments submitted in response to this notice will be summarized and/or included in the request for Office of Management and Budget approval of the information collection request; they will also become a matter of public record.

Dated: April 24, 2002.
David L. Meyer,
Director, Office of Administration and Management.

[FR Doc. 02-10638 Filed 4-29-02; 8:45 am]

BILLING CODE 4510-43-M